ENVIRONMENTAL PROTECTION AGENCY

40 CFR Part 63

[OAR-2004-0411; AD-FRL-7898-9]

RIN 2060-AK80

National Emission Standards for Hazardous Air Pollutants for Source Categories: Generic Maximum Achievable Control Technology Standards; and National Emission Standards for Ethylene Manufacturing Process Units: Heat Exchange Systems and Waste Operations

AGENCY: Environmental Protection Agency (EPA).

ACTION: Proposed rules; amendments.

SUMMARY: The EPA is proposing to amend the National Emissions Standards for Hazardous Air Pollutants for Source Categories: Generic Maximum Control Technology Standards which were promulgated in June 1999 (64 FR 34863), and the National Emission Standards for Ethylene Manufacturing Process Units: Heat Exchange Systems and Waste Operations which were promulgated in July 2002 (67 FR 46258). The proposed amendments would clarify the compliance requirements for benzene waste streams, clarify the requirements for heat exchangers and heat exchanger systems, and stipulate the provisions for offsite waste transfer in the national emission standards for ethylene process units. The proposed amendments would also correct the regulatory language that make emissions from ethylene cracking furnaces during decoking operations an exception to the provisions and delineate overlapping requirements for storage vessels and transfer racks.

In addition, the proposed amendments would also correct errors in the proposed rule for the Acrylic and Modacrylic Fiber Production source category which were not corrected as indicated in the preamble to the June 1999 final rule (64 FR 34863).

In the Rules and Regulations section of this Federal Register, we are taking direct final action on the proposed amendments because we view these revisions as noncontroversial and anticipate no adverse comments. We have explained our reasons for the amendments in the direct final rules. If we have no adverse comments, we will take no further action on the proposed amendments. If we receive adverse comments, we will withdraw only those amendments on which we receive adverse comments. We will publish a timely withdrawal in the Federal Register indicating which amendments will become effective and which amendments are being withdrawn. If all or part of the direct final rules in the Rules and Regulations section of this Federal Register is withdrawn, all comments pertaining to those amendments will be addressed in a subsequent final rulemaking based on these proposed amendments. We will not institute a second comment period on the subsequent final action. Any parties interested in commenting must do so at this time.

DATES: Comments. Written comments must be received on or before May 31, 2005.

Public Hearing. If anyone contacts us by April 20, 2005 requesting to speak at a public hearing, we will hold a public hearing on April 28, 2005. If a public hearing is held, it will be held at EPA's RTP Campus in Research Triangle Park, NC, or an alternate site nearby. Persons interested in attending the public hearing should contact Ms. Dorothy Apple at (919) 541-4487 to verify that a hearing will be held and its location.

ADDRESSES: Submit your comments, identified by Docket ID No. OAR-2004-0411, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: a-and-r-docket@epa.gov.

• Fax: (202) 566-1741.

• Mail: EPA Docket Center, Environmental Protection Agency, Mailcode: 6102T, 1200 Pennsylvania Avenue, NW., Washington, DC 20460. Please include a duplicate copy, if possible.

• Hand Delivery: Air and Radiation Docket, Environmental Protection Agency, 1301 Constitution Avenue, NW., Room B-108, Washington, DC 20460. Such deliveries are only accepted during the Docket's normal hours of operation, and special arrangements should be made for deliveries of boxed information.

We request that a separate copy also be sent to the contact person listed below (see FOR FURTHER INFORMATION CONTACT).

Instructions: Direct your comments to Docket ID No. OAR-2004-0411. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102).

Submitting CBI. Do not submit information that you consider to be CBI electronically through EDocket, regulations.gov, or e-mail. Send or deliver information identified as CBI to only the following address: Mr. Warren Johnson, c/o OAQPS Document Control Officer (Room C439-01), U.S. EPA, Research Triangle Park, 27711, Attention Docket ID No. OAR-2004-0411. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

Dockets. The docket number for the amendments to these standards is OAR-2004-0411. Other dockets incorporated by reference include Docket Nos. A-97-17 and A-97-18 for the Generic MACT, and A-98-22 for the emissions standards for ethylene production. The docket includes background information and supported the proposal and promulgation of the Generic MACT standards (40 CFR part 63, subparts XX and YY).

All documents in the docket are listed in the EDOCKET index at http://www.epa.gov/edocket. Although listed in the index, some information is not publicly available, i.e., CBI or other information whose disclosure is restricted by statute. Certain other material, such as copyrighted material, is not placed on the internet and will be publicly available only in hard copy form. Publicly available docket materials are available either electronically in EDOCKET or in hard copy at the EPA Docket Center (EPA/DC), EPA West Building, Room B102, 1301 Constitution Ave., NW., Washington, DC. The Public Reading Room is open from 8:30 a.m. to 4:30 p.m., Monday through Friday, excluding legal holidays. The telephone number for the Public Reading Room is (202) 566-1744, and the telephone number for the EPA Docket Center is (202) 566-1742.

Electronic Access. You may access this Federal Register document electronically through the EPA Internet under the Federal Register listings at http://www.epa.gov/edocket/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified above. Once in the system, select “search,” then key in the appropriate docket identification number.

Worldwide Web (WWW). In addition to being available in the docket, electronic copies of recently proposed and final rules will also be available on the WWW through EPA's Technology Transfer Network (TTN). Following signature, a copy of these direct final rules will be posted on the TTN's policy and guidance page for newly proposed or promulgated rules at http://www.epa.gov/ttn/oarpg. The TTN provides information and technology exchange in various areas of air pollution control. If more information regarding the TTN is needed, call the TTN HELP line at (919) 541-5384.

FOR FURTHER INFORMATION CONTACT: Mr. Warren Johnson, Organic Chemicals Group, Emission Standards Division (C504-04), Office of Air Quality Planning and Standards, EPA, Research Triangle Park, NC 27711; telephone number (919) 541-5124; facsimile number (919) 541-3470; electronic mail (e-mail) address johnson.warren@epa.gov. For information concerning corrections to the Acrylic/Modacrylic Fiber Production source category of the Generic MACT, contact Ms. Ellen Wildermann; Policy, Planning and Standards Group; Emission Standards Division (C439-04), Office of Air Quality Planning and Standards, EPA, Research Triangle Park, North Carolina 27711, (919) 541-5408, e-mail address wildermann.ellen@epa.gov.

SUPPLEMENTARY INFORMATION: Regulated Entities. The entities potentially affected by this action include the following categories of sources:

Category | NAICS code | SIC code | Examples of potentially regulated entities
Industrial | 325110 | 2869 | Producers of ethylene from refined petroleum or liquid hydrocarbons.
| 3252 | 2824 | Producers of either acrylic fiber or modacrylic fiber synthetics composed of acrylonitrile (AN) units.

This table is not intended to be exhaustive, but rather provides a guide for readers regarding entities likely to be affected by this action. Not all facilities listed classified under the NAICS code or SIC code are affected. To determine whether your facility is affected by this action, you should examine the applicability criteria in § 63.1100 of the final generic MACT standards. If you have any questions regarding the applicability of these technical corrections to a particular entity, contact the person listed in the preceding FOR FURTHER INFORMATION CONTACT section. For further information on these proposed rules, please see the information provided in the direct final rules action that is located in the “Rules and Regulations” section of this Federal Register publication.

Statutory and Executive Order Reviews

Regulatory Flexibility Act

The Regulatory Flexibility Act (RFA) generally requires an agency to prepare a regulatory flexibility analysis of any rule subject to notice and comment rulemaking requirements under the Administrative Procedure Act or any other statute unless the agency certifies that the rule will not have significant economic impact on a substantial number of small entities. Small entities include small businesses, small organizations, and small governmental jurisdictions. EPA has determined that it is not necessary to prepare a regulatory flexibility analysis in connection with the proposed rule amendments.

For purposes of assessing the impacts of the proposed rule amendments on small entities, a small entity is defined as: (1) A small business in the North American Industrial Classification System (NAICS) code 325 that has up to 500; (2) a small governmental jurisdiction that is a government of a city, county, town, school district or special district with a population of less than 50,000; and (3) a small organization that is any not-for-profit enterprise which is independently owned and operated and is not dominant in its field.

After considering the economic impacts of today's proposed rule amendments on small entities, I certify that this action will not have a significant economic impact on a substantial number of small entities. The proposed rule amendments will not impose any requirements on small entities. The proposed rule amendments provide clarifications and corrections to previously issued rules. Before promulgating the rule on acrylic and modacrylic fiber production in 1999 (64 FR 34863), we concluded that each standard applied to five or fewer major sources. In addition, we conducted a limited assessment of the economic effect of the proposed standards on small entities that showed no adverse economic effect for any small entities within any of these source categories. Similarly, before promulgating the rules on ethylene production in 2002 (67 FR 46258), we determined that there were no small entities affected by those rules.

For a discussion of other administrative requirements for the proposed rules, see the direct final rules action in the Rules and Regulations section of today's Federal Register.

List of Subjects in 40 CFR Part 63

Environmental protection, Administrative practice and Procedure, Air pollution control, Hazardous substances, Intergovernmental relations, Reporting and recordkeeping requirements.

Dated: April 7, 2005.
Stephen L. Johnson,
Acting Administrator.

[FR Doc. 05-7405 Filed 4-12-05; 8:45 am]

BILLING CODE 6560-50-P